DEPARTMENT OF STATE

[Public Notice 4491]

Bureau of Nonproliferation; Imposition of Lethal Military Equipment Assistance Prohibitions Against the Government of Russia and Waiver of These Assistance Prohibitions and Imposition of Discretionary Measures Against Russian Entity Tula KBP

AGENCY: Department of State.

ACTION: Notice.

SUMMARY: The United States Government has determined that the Government of Russia transferred lethal military equipment to countries determined by the Secretary of State to be state sponsors of terrorism. The United States Government further determined that, despite the transfers, furnishing assistance to the Government of Russia is important to the national interests of the United States. Further, notice is hereby given that it is the policy of the United States Government to deny all U.S. Government assistance to Tula Design Bureau of Instrument Building (Tula KBP), the entity that transferred the lethal military equipment to Iran.

EFFECTIVE DATE: September 16, 2003.

FOR FURTHER INFORMATION CONTACT: On general issues: Ron Parson, Office of Export Controls and Conventional Arms Nonproliferation Policy, Bureau of Nonproliferation, Department of State, (202-647-0397).

SUPPLEMENTARY INFORMATION: Pursuant to provisions of Section 620H of the Foreign Assistance Act (FAA) of 1961, as amended (22 U.S.C. 2378) and Section 543 of the Foreign Operations, Export Financing, and Related Programs Appropriations, Division E, of the Consolidated Appropriations Resolution, 2003 (PL 108-7) and similar provisions in previous year Foreign Operations, Export Financing, and Related Programs Appropriations Acts, and Executive Order 12163, as amended, on August 25, the United States Government determined that the Government of Russia provided lethal military equipment to countries determined by the Secretary of State to be state sponsors of terrorism. Also on August 25 and pursuant to the aforementioned provisions of law, the United States Government determined that furnishing assistance restricted by these provisions to the Russian Government is important to the national interests of the United States.

As a matter of policy, United States Government assistance will be denied to Tula KBP for one year. The appropriate officials have been directed to implement additional measures against Tula KBP, consisting of denial of U.S. Government procurement for one year and denial of new licenses and other approvals for exports and imports of defense articles and services for one year.

Dated: September 10, 2003.
Susan F. Burk,
Acting Assistant Secretary of State for Nonproliferation, Department of State.

[FR Doc. 03-23597 Filed 9-15-03; 8:45 am]

BILLING CODE 4710-27-P